DEPARTMENT OF THE INTERIOR

Bureau of Land Management

[LLIDB00100 LF10000PP.HT0000 LXSS020D0000 4500020817]

Notice of Temporary Closure of Roads and Trails on Public Lands Adjacent to Big Willow Creek in Payette County, ID

AGENCY: Bureau of Land Management, Interior.

ACTION: Notice of Temporary Closure.

SUMMARY: Notice is hereby given that the Big Willow closure to motorized vehicle use is in effect on public lands administered by the Four Rivers Field Office, Bureau of Land Management (BLM).

DATES: The closure will be enforced immediately and will remain in effect for 2 years following the date this notice is published in the Federal Register or until rescinded or modified by the authorized officer or designated Federal officer.

FOR FURTHER INFORMATION CONTACT: Terry Humphrey, Four Rivers Field Manager, at 3948 Development Avenue, Boise, Idaho 83705, via e-mail at thumphrey@blm.gov, or phone (208) 384-3430. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This notice affects closure of approximately 37 miles of roads and trails in an area of Payette County, Idaho, located approximately 14 miles northwest of Emmett, Idaho. All roads and trails on the following described public lands, all of which are contiguous, are closed to motorized vehicle use.

Boise Meridian

T. 8 N., R. 2 W.,

Sec. 5, lot 4;

Sec. 6, all;

Sec. 7, lot 1, portions of the NW¼NE¼ and NE¼NW¼ north and west of Big Willow Road.

T. 8 N., R. 3 W.,

Sec. 1, lots 1, 3, 4, S½N½, N½S½;

Sec. 2, lots 1, 2, 3, 4, S½N½, N½S½;

Sec. 3, lots 1, 2, 3, 4, S½N½, SW¼, N½SE¼;

Sec. 4, lot 1, SE¼NE¼, E½SE¼;

Sec. 8, portion of the SE¼SE¼ south and east of Stone Quarry Road;

Sec. 9, NE¼, E½NW¼, portion of the SW¼NW¼ south and east of Stone Quarry Road, N½S½, and portion of the SW¼SW¼ north and west of Big Willow Road;

Sec. 10, W½NW¼, and portion of the N½SW¼ north of Big Willow Road;

Sec. 12, E½NE¼, SW¼NE½, and SE¼NW¼.

T. 9 N., R. 2 W.,

Sec. 19, lot 4, and S½SE¼;

Sec. 28, S½SW¼, and portion of the S½SE¼ south and west of Dry Creek Road;

Sec. 29, S½;

Sec. 30, lots 1, 2, 3, 4, W½NE¼, E½NW¼, E½SW¼, SE¼;

Sec. 31, lots 2, 3, 4, NE¼, E½NW¼, E½SW¼, SE¼;

Sec. 32, all;

Sec. 33, portion of NE¼NE¼ south and west of Dry Creek Road, NW¼NE¼, N½NW¼;

Sec. 34, portion of NW¼NW¼ south and west of Dry Creek Road.

T. 9 N., R. 3 W,

Sec. 25, NE¼, E½NW¼, SW¼NW¼, SW¼, N½SE¼, SW¼SE¼;

Sec. 26, S½NE¼, NE¼SW¼, SE¼;

Sec. 34, SE¼SW¼ and SE¼;

Sec. 35, all.

The area described contains approximately 7,134 acres.

Closure of these routes to motorized vehicle use is necessary because habitat for Packard's milkvetch (Astragalus cusickii var. packardiae), a candidate species under the Endangered Species Act (ESA), is at risk from further damage by motorized vehicles. The 1988 Cascade Resource Management Plan (RMP) classified off-highway vehicle (OHV) use in the area as limited to existing or designated roads and trails. At that time, approximately 37 miles of roads and trails existed on the area's public lands. The Cascade RMP effectively closed all other lands in the area to OHV use. Nonetheless, by 2009, the number of road and trail miles in the area had grown to 160 (a 430 percent increase). The proliferation of unauthorized routes was a primary factor in the U.S. Fish and Wildlife Service (FWS) decision in November 2010 to identify Packard's milkvetch as a candidate species under the ESA. Unauthorized OHV activity is causing direct (e.g. destruction of plants) and indirect impacts (e.g. increased sediment from adjacent areas and introduction/expansion of noxious and invasive weeds into milkvetch habitat) to the species. The FWS has assigned a Listing Priority Number 3 rating to the Packard's milkvetch. This rating ranks species on a 1 (highest) to 12 (lowest) scale to reflect the relative risk of extinction and the impact of the loss of the species as a whole. Closure of the 37 miles of roads and trails will prevent further establishment of unauthorized OHV roads and trails and help prevent further impacts to, and ensure suitable conditions for, Packard's milkvetch plants and their associated habitat. When added to the existing restrictions on OHV use in the 1988 Cascade RMP, the closure will serve to protect the species and its habitat on 7,134 acres of public lands.

The BLM will post closure signs at main entry points to the closed area and/or other locations on-site. This closure will be posted in the Boise District BLM office. Maps of the affected area and other associated documents are available at 3948 Development Avenue, Boise, Idaho 83705. Under the authority of Section 303(a) of the Federal Land Policy and Management Act of 1976 (43 U.S.C. 1733(a)), 43 CFR 8360.0-7 and 43 CFR 8364.1, the BLM will enforce the following rule within the Big Willow closure:

Motorized vehicles must not be used on the closed roads and trails.

Exemptions: The following persons are exempt from this order: Federal, State, and local Law Enforcement officers and employees in the performance of their official duties; members of organized rescue or fire-fighting forces in the performance of their official duties; and persons with written authorization from the BLM.

Penalties: Any person who violates the above rule may be tried before a United States Magistrate and fined no more than $1,000, imprisoned for no more than 12 months, or both. Violators may also be subject to the enhanced fines provided for in 18 U.S.C. 3571.

Authority: 43 CFR 8364.1.

Terry Humphrey,
Four Rivers Field Manager.

[FR Doc. 2011-18843 Filed 7-25-11; 8:45 am]

BILLING CODE 4310-GG-P\